DEPARTMENT OF AGRICULTURE

Food and Nutrition Service

7 CFR Parts 210 and 226

RIN 0584-AB81

Child and Adult Care Food Program and Infant Meal Patterns; Correction

AGENCY: Food and Nutrition Service, USDA.

ACTION: Correcting amendments.

SUMMARY: This document contains a correction to the infant meal pattern tables that appear in the current edition of the Code of Federal Regulations that appear under 7 CFR parts 210 and 226. This error first appeared in an interim rule published in the Federal Register on November 15, 1999 (64 FR 61770). This document also contains corrections to the meal pattern tables for suppers and supplemental foods that appear in 7 CFR part 226. The errors first appeared in a final rule published in the Federal Register on March 9, 2000 (65 FR 12429).

EFFECTIVE DATE: December 20, 2001.

FOR FURTHER INFORMATION CONTACT: Ms. Melissa Rothstein, 3101 Park Center Drive, Room 640, Alexandria, Virginia 22302; or (703) 305-2590; or CNDINTERNET@fns.usda.gov.

SUPPLEMENTARY INFORMATION:

Need for Correction

The regulatory text in §§ 210.10(o)(2)(iii)(B) and 226.20(b)(4) indicates that servings of cottage cheese, cheese food, and cheese spread in the lunch pattern for infants are measured in ounces. In an interim rule published in the Federal Register on November 15, 1999 (64 FR 61770), the infant meal pattern tables that appear in §§ 210.10(o)(2) and 226.20(b)(4) incorrectly refer to tablespoons instead of ounces. This document corrects the tables to indicate that a serving of cottage cheese, cheese food, or cheese spread is to be measured in ounces.

In a final rule published in the Federal Register on March 9, 2000 (65 FR 12429), the meal pattern table in § 226.20(c)(3) contained incorrect information for the fluid milk requirement for adult participants receiving suppers under the Child and Adult Care Food Program. The meal pattern table in § 226.20(c)(4) contained incorrect amounts of meat and meat alternates that may be offered as part of a reimbursable snack. This document corrects these errors.

List of Subjects

7 CFR Part 210

Children, Commodity School Program, Food assistance programs, Grants programs-social programs, National School Lunch Program, Nutrition, Reporting and recordkeeping requirements, Surplus agricultural commodities.

7 CFR Part 226

Accounting, Aged, Day care, Food assistance programs, Grant programs, Grant programs-health, Indians, Individuals with disabilities, Infants and children, Intergovernmental relations, Loan programs, Reporting and recordkeeping requirements, Surplus agricultural commodities.

Accordingly, 7 CFR parts 210 and 226 are corrected by the following amendments:

PART 210—NATIONAL SCHOOL LUNCH PROGRAM

1. The authority citation for 7 CFR part 210 continues to read as follows:

Authority: 42 U.S.C. 1751-1760, 1779.

2. In § 210.10, amend the Lunch Pattern for Infants table in paragraph (o)(2) by removing the word “tablespoons” before the words “of cottage cheese” in column 4 and adding the word “ounces” in its place.

PART 226—CHILD AND ADULT CARE FOOD PROGRAM

1. The authority citation for 7 CFR part 226 continues to read as follows:

Authority: Sections 9, 11, 14, 16 and 17, National School Lunch Act, as amended (42 U.S.C. 1758, 1759a, 1762a, 1765 and 1766).

2. In § 226.20:

a. Amend the Child Care Infant Meal Pattern table in paragraph (b)(4) by removing the word “Tbsp.” before the words “Cottage cheese” in column 4 and adding the word “ounces” in its place;

b. Amend the table in paragraph (c)(3) by removing the words “1 cup.” from the first line of column 5 and adding the word “None.” in its place;

c. Amend the table in paragraph (c)(4) by revising the entries for “Lean meat or poultry or fish⁶ or”, “Alternate protein products⁷ or”, and “Cheese or” under the “Meat and Meat Alternates” heading to read as follows:

§ 226.20 Requirements for meals.

* * * * *

(c) * * *

(4) * * *

Food components ¹ | Age 1 and 2 | Age 3 through 5 | Age 6 through 12 ² | Adult participants
* * * * * * *
Meat and Meat Alternates:
Lean meat or poultry or fish ⁶ or | ½ ounce | ½ ounce | 1 ounce | 1 ounce
Alternate protein products ⁷ or | ½ ounce | ½ ounce | 1 ounce | 1 ounce
Cheese or | ½ ounce | ½ ounce | 1 ounce | 1 ounce
* * * * * * *
¹ For purposes of the requirements outlined in this subsection, a cup means a standard measuring cup.
² Children age 12 and up may be served adult size portions based on the greater food needs of older boys and girls, but shall be served not less than the minimum quantities specified in this section for children age 6 up to 12.
* * * * *
⁶ Edible portions must be served.
⁷ Must meet the requirements in Appendix A of this part.
* * * * *

Dated: December 7, 2001.
George A. Braley,
Acting Administrator, Food and Nutrition Service.

[FR Doc. 01-31161 Filed 12-19-01; 8:45 am]

BILLING CODE 3410-30-U